DEPARTMENT OF ENERGY

Federal Energy Regulatory Commission

[Docket No. RP15-147-000]

Comisión Federal de Electricdad; Notice of Petition for Clarification Regarding Continuation of Prior Authorization of Gas Supply and Transportation Arrangements

Take notice that on November 3, 2014, pursuant to Rule 207(a)(5) of the Commission's Rules of Practices and Procedure, 18 CFR 385.207(a)(5)(2014), the Comisión Federal de Electricdad (CFE), Mexico's nationally-owned electric utility, filed a petition for clarification that prior authorization of certain gas supply and transportation arrangements on behalf of CFE will continue following permanent release by the current shipper (MexGas Supply, S.L., formerly known as MGI Supply Ltd. [MexGas]), to CFE of transportation capacity on the Samalayuca Lateral of the El Paso Natural Gas Company, L.L.C. Additionally, CFE requests such other waivers or permissions the Commission finds necessary to allow the arrangement to take effect, all as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on November 13, 2014.

Dated: November 5, 2014.
Kimberly D. Bose,
Secretary.

[FR Doc. 2014-27246 Filed 11-17-14; 8:45 am]

BILLING CODE 6717-01-P